DEPARTMENT OF THE INTERIOR

National Park Service

[NPS-WASO-NRNHL-14777; PPWOCRADI0, PCU00RP14.R50000]

National Register of Historic Places; Notification of Pending Nominations and Related Actions

Nominations for the following properties being considered for listing or related actions in the National Register were received by the National Park Service before January 4, 2014. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by February 5, 2014. Before including your address, phone number, email address, or other personal identifying information in your comment, you should be aware that your entire comment—including your personal identifying information—may be made publicly available at any time. While you can ask us in your comment to withhold your personal identifying information from public review, we cannot guarantee that we will be able to do so.

Dated: January 7, 2014.
J. Paul Loether,
Chief, National Register of Historic Places/National Historic Landmarks Program.

NEW YORK

Albany County

Albany Felt Company Complex, 1373 Broadway, Menands, 14000001

Building at 44 Central Avenue, 44 Central Ave., Albany, 14000002

Erie County

Houk Manufacturing Co., 300-320 Grote St., 1686-1700 Elmwood Ave., Buffalo, 14000003

Jefferson County

Losee, John, House, 17100 Cty. Rd. 155, Watertown, 14000004

Monroe County

Feasel, Florendin, House, 1294 Lehigh Station Rd., Henrietta, 14000005

Onondaga County

Courier Building, The, 210 Montgomery St., 237-43 Genesee St., E., Syracuse, 14000006

Queens County

Sohmer and Company Piano Factory, 31-01 Vernon Blvd., Queens, 14000007

Rensselaer County

Troy Waste Manufacturing Company Building, 444 River St., Troy, 14000008

Van Zandt, Jacobs and Company Collar and Cuff Factory, (Textile Factory Buildings in Troy, New York, 1880-1920 MPS) 621 River St., Troy, 14000009

VIRGINIA

Clarke County

Chapel Rural Historic District, Generally centered along Lord Fairfax Hwy., Millwood, 14000010

Fauquier County

Little River Rural Historic District, Roughly bounded by VA 629, VA 776 & U.S. 50, The Plains, 14000011

A request for removal has been received for the following resource:

WISCONSIN

Rock County

Dougan Round Barn, (Centric Barns in Rock County TR) 444 West Colley Rd., Beloit, 79000108

[FR Doc. 2014-00981 Filed 1-17-14; 8:45 am]

BILLING CODE 4312-51-P